NUCLEAR REGULATORY COMMISSION

10 CFR Part 72

[NRC-2010-0183]

RIN 3150-AI88

List of Approved Spent Fuel Storage Casks: NAC-MPC System, Revision 6, Confirmation of Effective Date

AGENCY: Nuclear Regulatory Commission.

ACTION: Direct final rule: Confirmation of effective date.

SUMMARY: The Nuclear Regulatory Commission (NRC) is confirming the effective date of October 4, 2010, for the direct final rule that was published in the Federal Register on July 21, 2010 (75 FR 42292). This direct final rule amended the NRC's spent fuel storage regulations at 10 CFR 72.214 to revise the NAC-MPC System listing to include Amendment Number 6 to Certificate of Compliance (CoC) Number 1025.

DATES: Effective Date: The effective date of October 4, 2010, is confirmed for this direct final rule.

ADDRESSES: Documents related to this rulemaking, including any comments received, may be examined at the NRC Public Document Room, Room O-1F23, 11555 Rockville Pike, Rockville, MD 20852.

FOR FURTHER INFORMATION CONTACT: Jayne M. McCausland, Office of Federal and State Materials and Environmental Management Programs, U.S. Nuclear Regulatory Commission, Washington, DC 20555, telephone (301) 415-6219, e-mail Jayne.McCausland@nrc.gov.

SUPPLEMENTARY INFORMATION: On July 21, 2010 (75 FR 42292), the NRC published a direct final rule amending its regulations at 10 CFR 72.214 to include Amendment No. 6 to CoC No. 1025. Amendment No. 6 changes the configuration of the NAC-MPC storage system by the incorporation of a single closure lid with a welded closure ring for redundant closure into the Transportable Storage Canister (TSC) design; modification of the TSC and basket design to accommodate up to 68 La Crosse Boiling Water Reactor spent fuel assemblies (36 undamaged Exxon fuel assemblies and up to 32 damaged fuel cans (in a preferential loading pattern)) that may contain undamaged Exxon fuel assemblies and damaged Exxon and Allis Chalmers fuel assemblies and/or fuel debris; the addition of zirconium alloy shroud compaction debris to be stored with undamaged and damaged fuel assemblies; minor design modifications to the Vertical Concrete Cask incorporating design features from the MAGNASTOR System for improved operability of the system while adhering to as low as is reasonably achievable principles; an increase in the concrete pad compression strength from 4,000 psi to 6,000 psi; added justification for the 6-ft. soil depth as being conservative; and other changes to incorporate minor editorial corrections in CoC No. 1025 and Appendices A and B of the Technical Specifications (TS). Also, the Definitions in TS 1.1 are revised to include modifications and newly defined terms; the Limiting Conditions for Operation and associated Surveillance Requirements in TS 3.1 and 3.2 are revised; and editorial changes are made to TS 5.2 and 5.4. In the direct final rule, NRC stated that if no significant adverse comments were received, the direct final rule would become final on October 4, 2010. The NRC did not receive any comments on the direct final rule. Therefore, this rule will become effective as scheduled.

Dated at Rockville, Maryland, this 17th day of September 2010.
For the Nuclear Regulatory Commission.
Cindy Bladey,
Chief, Rules, Announcements, and Directives Branch, Division of Administrative Services, Office of Administration.

[FR Doc. 2010-23875 Filed 9-22-10; 8:45 am]

BILLING CODE 7590-01-P